OFFICE OF THE UNITED STATES TRADE REPRESENTATIVE

[Dispute No. WTO/DS491/Docket No. USTR-2015-0005]

WTO Dispute Settlement Proceeding Regarding United States—Anti-Dumping and Countervailing Measures on Certain Coated Paper From Indonesia

AGENCY: Office of the United States Trade Representative.

ACTION: Notice; request for comments.

SUMMARY: The Office of the United States Trade Representative (“USTR”) is providing notice that on March 13, 2015, the Republic of Indonesia requested consultations with the United States under the Marrakesh Agreement Establishing the World Trade Organization (“WTO Agreement”) concerning antidumping (“AD”) and countervailing duty (“CVD”) measures pertaining to certain coated paper suitable for high-quality print graphics using sheet-fed presses from Indonesia. That request may be found at www.wto.org contained in a document designated as WT/DS491/1. USTR invites written comments from the public concerning the issues raised in this dispute.

DATES: Although USTR will accept any comments received during the course of the dispute settlement proceedings, comments should be submitted on or before May 11, 2015, to be assured of timely consideration by USTR.

ADDRESSES: Public comments should be submitted electronically to www.regulations.gov, docket number USTR-2015-0005. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: Micah Myers, Associate General Counsel, or Juli Schwartz, Assistant General Counsel, Office of the United States Trade Representative, 600 17th Street NW., Washington, DC 20508, (202) 395-3150.

SUPPLEMENTARY INFORMATION: USTR is providing notice that consultations have been requested pursuant to the WTO Understanding on Rules and Procedures Governing the Settlement of Disputes (“DSU”). If such consultations should fail to resolve the matter, Indonesia could request the establishment of a dispute settlement panel.

Major Issues Raised by Indonesia

On March 13, 2015, Indonesia requested consultations concerning AD and CVD measures pertaining to certain coated paper suitable for high-quality print graphics using sheet-fed presses. The specific U.S. legal instruments referenced in Indonesia's consultations request are: (1) Section 771(11)(B) of the Tariff Act of 1930, as amended, codified at 19 U.S.C. 1677(11)(B); (2) Certain Coated Paper from Indonesia: Initiation of Countervailing Duty Investigation, 74 FR 53707 (Oct. 20, 2009); (3) Certain Coated Paper Suitable for High-Quality Print Graphics Using Sheet-Fed Presses from Indonesia and the People's Republic of China: Initiation of Antidumping Duty Investigations, 74 FR 53710 (Oct. 20, 2009); (4) Certain Coated Paper Suitable for High-Quality Print Graphics Using Sheet-Fed Presses from China and Indonesia, 74 FR 50243 (Sept. 30, 2009); (5) Certain Coated Paper Suitable for High-Quality Print Graphics Using Sheet-Fed Presses from China and Indonesia, 74 FR 61174 (Nov. 23, 2009); (6) Certain Coated Paper Suitable for High-Quality Print Graphics Using Sheet-Fed Presses from Indonesia: Preliminary Affirmative Countervailing Duty Determination and Alignment of Final Countervailing Duty Determination with Final Antidumping Duty Determination, 75 FR 10761 (Mar. 9, 2010); (7) Certain Coated Paper Suitable for High-Quality Print Graphics Using Sheet-Fed Presses from Indonesia: Preliminary Determination of Sales at Less Than Fair Value and Postponement of Final Determination, 75 FR 24885 (May 6, 2010); (8) Certain Coated Paper Suitable for High-Quality Print Graphics Using Sheet-Fed Presses from Indonesia: Final Affirmative Countervailing Duty Determination, 75 FR 59209 (Sept. 27, 2010); (9) Certain Coated Paper Suitable for High-Quality Print Graphics Using Sheet-Fed Presses from Indonesia: Final Determination of Sales at Less Than Fair Value, 75 FR 59223 (Sept. 27, 2010); (10) Certain Coated Paper Suitable for High-Quality Print Graphics Using Sheet-Fed Presses from China and Indonesia, 75 FR 70289 (Nov. 17, 2010); (11) Certain Coated Paper Suitable for High-Quality Print Graphics Using Sheet-Fed Presses from Indonesia: Countervailing Duty Order, 75 FR 70206 (Nov. 17, 2010); and (12) Certain Coated Paper Suitable for High-Quality Print Graphics Using Sheet-Fed Presses from Indonesia: Antidumping Duty Order, 75 FR 70205 (Nov. 17, 2010).

With respect to the CVD measures, Indonesia challenges the U.S. Department of Commerce's (“DOC”) determination that Indonesia provided standing timber for less than adequate remuneration, describing it in the consultation request as a “per se determination of price distortion” without a (corresponding) determination of “the adequacy of remuneration `in relation to prevailing market conditions.' ” Indonesia also states that DOC failed to “examine whether there was a plan or scheme in place sufficient to constitute a `subsidy programme.' ” Indonesia further claims DOC “did not identify whether the entity providing the purported subsidy was the national, regional, or local government and . . . thus . . . whether the subsidy was `specific to an enterprise . . . within the jurisdiction of the granting authority' ” (third ellipsis in original). In addition, Indonesia challenges DOC's facts available analysis in which it concluded that the Government of Indonesia forgave debt.

With respect to both the AD and CVD measures, Indonesia alleges that the U.S. International Trade Commission's (“ITC”) threat of injury determination “relied on `allegation, conjecture [and] remote possibility,' ” was not based “on a change in circumstances that was `clearly foreseen and imminent,' ” and showed no “causal relationship between the [subject] imports and the . . . threat of injury to the domestic industry.”

With respect to 19 U.S.C. 1677(11)(B), Indonesia contends that “the law does not consider or exercise `special care' ” as a result of the “requirement that a tie vote in a threat of injury determination must be treated as an affirmative . . . [ITC] determination.”

Indonesia alleges inconsistencies with Article VI of the General Agreement on Tariffs and Trade 1994, Articles 1, 3.5, 3.7 and 3.8 of the Agreement on Implementation of Article VI of the General Agreement on Tariffs And Trade 1994 and Articles 2.1, 12.7, 10, 14(d), 15.5, 15.7 and 15.8 of the Agreement on Subsidies and Countervailing Measures.

Public Comment: Requirements for Submissions

Interested persons are invited to submit written comments concerning the issues raised in this dispute. Persons may submit public comments electronically to www.regulations.gov docket number USTR-2015-0005. If you are unable to provide submissions by www.regulations.gov, please contact Sandy McKinzy at (202) 395-9483 to arrange for an alternative method of transmission.

To submit comments via www.regulations.gov, enter docket number USTR-2015-0005 on the home page and click “Search.” The site will provide a search-results page listing all documents associated with this docket. Find a reference to this notice by selecting “Notice” under “Document Type” on the left side of the search-results page, and click on the link entitled “Comment Now!” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted, be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter:

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection.

Pursuant to section 127(e) of the Uruguay Round Agreements Act (19 U.S.C. 3537(e)), USTR will maintain a docket on this dispute settlement proceeding, docket number USTR-2015-0005, accessible to the public at www.regulations.gov. The public file will include non-confidential comments received by USTR from the public regarding the dispute. If a dispute settlement panel is convened, or in the event of an appeal from such a panel, the following documents will be made available to the public at www.ustr.gov: The United States' submissions, any non-confidential submissions received from other participants in the dispute, and any non-confidential summaries of submissions received from other participants in the dispute. In the event that a dispute settlement panel is convened, or in the event of an appeal from such a panel, the report of the panel, and, if applicable, the report of the Appellate Body, will also be available on the Web site of the World Trade Organization, at www.wto.org. Comments open to public inspection may be viewed at www.regulations.gov.

Juan Millan,
Assistant United States Trade Representative for Monitoring and Enforcement.

[FR Doc. 2015-09026 Filed 4-17-15; 8:45 am]

BILLING CODE 3290-F5-P